DEPARTMENT OF THE TREASURY

Internal Revenue Service

26 CFR Part 1

[REG-119046-10]

RIN 1545-BJ54

Requirements of a Statement Disclosing Uncertain Tax Positions; Correction

AGENCY: Internal Revenue Service (IRS), Treasury.

ACTION: Correction to notice of proposed rulemaking and a notice of public hearing.

SUMMARY: This document contains a correction to a notice of proposed rulemaking and a notice of public hearing that was published in the Federal Register on Thursday, September 9, 2010 (75 FR 54802) allowing the IRS to require corporations to file a schedule disclosing uncertain tax positions related to the tax return as required by the IRS.

FOR FURTHER INFORMATION CONTACT: Kathryn Zuba, (202) 622-3400 (not toll-free number).

SUPPLEMENTARY INFORMATION:

Background

The correction notice that is the subject of this document is under section 6012 of the Internal Revenue Code.

Need for Correction

As published, the notice of proposed rulemaking and notice of public hearing (REG-119046-10) contains an error that may prove to be misleading and is in need of clarification.

Correction of Publication

Accordingly, the publication of the notice of proposed rulemaking and notice of public hearing (REG-119046-10), which was the subject of FR Doc. 2010-22624, is corrected as follows:

On page 54802, column 3, under the caption DATES, lines 4 and 5, the language “public hearing scheduled for October 15, 2010, at 10 a.m., must be received” is corrected to read “public hearing scheduled for October 19, 2010, at 10 a.m., must be received”

LaNita Van Dyke,
Chief, Publications and Regulations Branch, Legal Processing Division, Associate Chief Counsel, (Procedure and Administration).

[FR Doc. 2010-24488 Filed 9-29-10; 8:45 am]

BILLING CODE 4830-01-P